DEPARTMENT OF HEALTH AND HUMAN SERVICES

Administration for Children and Families

[HHS 2004-ACF-ACYF-CY-0011-1]

Notice of Correction for the FY04 Basic Center Program Announcement HHS-2004-ACF-ACYF-CY-0011 CFDA# 93.623

AGENCY: Administration on Children, Youth and Families, ACF, DHHS.

ACTION: Notice of correction.

SUMMARY: This notice is to inform interested parties of corrections made to the Basic Center program Announcement published on April 20, 2004.

The following corrections should be noted:

Under Appendix D: Table of Basic Center Program Allocations by State: The continuations for the State of Minnesota should be $696,697 and the New Awards should be $89,559. The Continuations for the State of North Dakota should be $0 and the New Awards should be $102,485.

In addition to the changes in Minnesota and North Dakota, the territory of American Samoa has been added to the allocation chart and has $45,000 in New Awards funds available.

FOR FURTHER INFORMATION CONTACT: ACYF Operations Center at (866) 796-1591 or fysb@dixongroup.com.

Dated: May 21, 2004.
Joan E. Ohl,
Commissioner, Administration on Children, Youth and Families.

[FR Doc. 04-12351 Filed 5-28-04; 8:45 am]

BILLING CODE 4184-01-P